ENVIRONMENTAL PROTECTION AGENCY

40 CFR Part 52

[MN66-01-7291b; FRL-7206-4]

Approval and Promulgation of Implementation Plans; Minnesota

AGENCY: Environmental Protection Agency (EPA).

ACTION: Proposed rule.

SUMMARY: We are proposing to approve a site-specific revision to the Minnesota Sulfur Dioxide (SO2) State Implementation Plan (SIP) for Marathon Ashland Petroleum, LLC (Marathon Ashland), located in the cities of St. Paul Park and Newport, Washington County, Minnesota. The Minnesota Pollution Control Agency requested in their February 6, 2000, submittal that EPA approve into the Minnesota SO2 SIP certain portions of the Title V permit for Marathon Ashland and remove the Marathon Ashland Administrative Order from the state SO2 SIP. The request is approvable because it satisfies the requirements of the Clean Air Act. Specifically, we are proposing to approve into the SIP only those portions of the permit cited as “Title I condition: SIP for SO2 NAAQS 40 CFR pt. 50 and Minnesota State Implementation Plan (SIP).” In addition, we are proposing to remove the Marathon Ashland Administrative Order from the state SO2 SIP. In the final rules section of the Federal Register, we are approving the SIP revision as a direct final rule without prior proposal, because we view this as a noncontroversial revision amendment and anticipate no adverse comments. A detailed rationale for the approval is set forth in the direct final rule. If no adverse comments are received in response to this proposed rule, no further activity is contemplated in relation to this proposed rule. If we receive adverse comments, the direct final rule will be withdrawn and all public comments received will be addressed in a subsequent final rule based on this proposed rule. We will not institute a second comment period on this action. Any parties interested in commenting on this action should do so at this time.

DATES: Written comments must be received on or before June 19, 2002.

ADDRESSES: Written comments should be sent to: Carlton T. Nash, Chief, Regulation Development Section, Air Programs Branch (AR-18J), EPA Region 5, 77 West Jackson Boulevard, Chicago, Illinois 60604-3590.

FOR FURTHER INFORMATION CONTACT: Christos Panos, Regulation Development Section, Air Programs Branch (AR-18J), EPA Region 5, 77 West Jackson Boulevard, Chicago, Illinois 60604, (312) 353-8328.

SUPPLEMENTARY INFORMATION: For additional information, see the Direct Final rule which is located in the Rules section of this Federal Register. Copies of the request and the EPA's analysis are available for inspection at the above address. (Please telephone Christos Panos at (312) 353-8328 before visiting the Region 5 Office.)

Dated: March 08, 2002.
Robert Springer,
Acting Regional Administrator, Region 5.

[FR Doc. 02-12415 Filed 5-17-02; 8:45 am]

BILLING CODE 6560-50-M